FEDERAL COMMUNICATIONS COMMISSION

47 CFR Part 25

[GN Docket No. 14-177, IB Docket Nos. 15-256 and 97-95, WT Docket No. 10-112; FCC 17-152, FCC 18-73]

Use of Spectrum Bands Above 24 GHz for Mobile Radio Services

AGENCY: Federal Communications Commission.

ACTION: Final rule; announcement of effective date.

SUMMARY: In this document, the Federal Communications Commission (Commission) announces that the Office of Management and Budget (OMB) has approved, for a period of three years, the information collection requirements associated with the Commission's Second Report and Order (Second R&O) and Third Report and Order (Third R&O), GN Docket No. 14-177, WT Docket No. 10-112, FCC 17-152 and FCC 18-73. This document is consistent with the Second R&O and Third R&O, which stated that the Commission would publish a document in the Federal Register announcing OMB approval and the effective date of the information collection requirements.

DATES: The rule amendments contained in 47 CFR 25.136, published at 83 FR 37, January 2, 2018 and 83 FR 34478, July 20, 2018, are effective on February 7, 2019.

FOR FURTHER INFORMATION CONTACT: For additional information, contact Cathy Williams, Cathy.Williams@fcc.gov, (202) 418-2918.

SUPPLEMENTARY INFORMATION: This document announces that, on January 28, 2019, OMB approved the information collection requirements contained in the Commission's Second R&O and Third R&O, FCC 17-152 and FCC 18-73, published at 83 FR 37 and 83 FR 34478, January 2, 2018 and July 20, 2018. The OMB Control Number is 3060-1215. The Commission publishes this document as an announcement of the effective date of the information collection requirements.

Synopsis

As required by the Paperwork Reduction Act of 1995 (44 U.S.C. 3507), the FCC is notifying the public that it received OMB approval on November 6, 2018, for the information collection requirements contained in the Commission's rules.

No person shall be subject to any penalty for failing to comply with a collection of information subject to the Paperwork Reduction Act that does not display a current, valid OMB Control Number. The OMB Control Number is 3060-1215.

The foregoing notice is required by the Paperwork Reduction Act of 1995, Public Law 104-13, October 1, 1995, and 44 U.S.C. 3507.

The total annual reporting burdens and costs for the respondents are as follows:

OMB Control Number: 3060-1215.

OMB Approval Date: January 28, 2019.

OMB Expiration Date: January 31, 2022.

Title: Use of Spectrum Bands Above 24 GHz for Mobile Radio Services.

Form Number: Not applicable.

Respondents: Business or other for-profit entities, state, local, or tribal government and not for profit institutions.

Number of Respondents and Responses: 280 respondents; 280 responses.

Estimated Time per Response: 0.5-10 hours.

Frequency of Response: On occasion reporting requirement; third party disclosure requirement; upon commencement of service, or within 3 years of effective date of rules; and at end of license term, or 2024 for incumbent licensees.

Obligation to Respond: Required to obtain or retain benefits. The statutory authority for this collection are contained in sections 1, 2, 3, 4, 5, 7, 10, 201, 225, 227, 301, 302, 302a, 303, 304, 307, 309, 310, 316, 319, 332, and 336 of the Communications Act of 1934, 47 U.S.C. 151, 152, 153, 154, 155, 157, 160, 201, 225, 227, 301, 302, 302a, 303, 304, 307, 309, 310, 316, 319, 332, 336, Section 706 of the Telecommunications Act of 1996, as amended, 47 U.S.C. 1302.

Total Annual Burden: 615 hours.

Annual Cost Burden: $450,000.

Privacy Act Impact Assessment: No impact(s).

Nature and Extent of Confidentiality: There is no need for confidentiality with this collection of information. The information to be collected will be made available for public inspection. Applicants may request materials or information submitted to the Commission be given confidential treatment under 47 CFR 0.459 of the Commission's rules.

Needs and Uses: The Federal Communications Commission (Commission or FCC) adopted Use of Spectrum Bands Above 24 GHz for Mobile Radio Services in a Second Report and Order (“Second R&O”), GN Docket No. 14-177, IB Docket No. 15-256, WT Docket No. 10-112 and IB Docket No. 97-95, FCC 17-152, on November 16, 2017, published in 83 FR 37 on January 2, 2018. The Commission also adopted Use of Spectrum Bands Above 24 GHz for Mobile Radio Services in the Third R&O, GN Docket No. 14-177, WT Docket No. 10-112, on June 7, 2018, FCC 18-73, published in 83 FR 34478 on July 20, 2018. In the Second and Third R&Os, the Commission amended § 25.136 by revising the section heading and paragraphs (a) introductory text, (a)(4), (b), (c), and (d) and adding paragraphs (e), (f) and (g). The Commission added the 24 GHz band (24.75-25.25 GHz) and 47 GHz band (47.2-48.2 GHz) to the bands that are subject to the framework for sharing between the Upper Microwave Flexible Use Service (UMFUS) and the Fixed-Satellite Service (FSS) established in that rule. Therefore, the Commission expanded the scope of the rules to include additional bands. In turn, since the rules now apply in additional bands, the number of respondents, the annual number of responses, annual burden hours and annual costs will increase for this collection. In addition, the Commission modified the sharing criteria between UMFUS and FSS to facilitate deployment of FSS earth stations in smaller markets and decrease the possibility of conflicts between UMFUS and FSS. The other rule sections previously approved under OMB Control Number 3060-1215 have not changed.

Federal Communications Commission.
Katura Jackson,
Federal Register Liaison Officer, Office of the Secretary.

[FR Doc. 2019-01480 Filed 2-6-19; 8:45 am]

BILLING CODE 6712-01-P